SECURITIES AND EXCHANGE COMMISSION

[Release No. 34-75449; File No. SR-NYSEARCA-2015-55]

Self-Regulatory Organizations; NYSE Arca, Inc.; Notice of Filing and Immediate Effectiveness of Proposed Rule Change Amending the NYSE Arca Equities Schedule of Fees and Charges for Exchange Services

July 14, 2015.

Correction

In notice document 2015-17660 beginning on page 42860 in the issue of Monday, July 20, 2015, make the following correction:

On page 42862, in the first column, in the 30th line, “August 7, 2015” should read “August 10, 2015”.

[FR Doc. C1-2015-17660 Filed 7-28-15; 8:45 am]

BILLING CODE 1505-01-D